DEPARTMENT OF COMMERCE

International Trade Administration

[A-570-863]

Honey from the People's Republic of China: Final Results and Final Rescission, In Part, of Antidumping Duty Administrative Review

AGENCY: Import Administration, International Trade Administration, Department of Commerce.

SUMMARY: On January 3, 2007, the U.S. Department of Commerce (the Department) published its preliminary results of the administrative review of the antidumping order on honey from the People's Republic of China (PRC). See Honey from the People's Republic of China: Preliminary Results and Partial Rescission of Antidumping Duty Administrative Review, 72 FR 102 (January 3, 2007) (Preliminary Results). This review covers five producers/exporters, Jiangsu Kanghong Natural Healthfoods Co., Ltd. (Jiangsu), Wuhan Shino-Food Trade Co., Ltd. (Shino-Food), Cheng Du Wai Yuan Bee Products Co., Ltd. (Chengdu), Kunshan Xin'an Trade Co., Ltd. (Kunshan Xin'an), and Anhui Honghui Foodstuff (Group) Co., Ltd. (Anhui Honghui) (collectively, respondents). The period of review (POR) is December 1, 2004, through November 30, 2005. We invited interested parties to comment on our Preliminary Results. Based on our analysis of the comments received, we have made changes to our calculations. The final dumping margins for this review are listed in the “Final Results of Review” section below.

EFFECTIVE DATE: July 11, 2007.

FOR FURTHER INFORMATION CONTACT: Judy Lao or Patrick Edwards, AD/CVD Operations, Office 7, Import Administration, International Trade Administration, U.S. Department of Commerce, 14th Street and Constitution Avenue, NW., Washington, DC 20230; telephone: (202) 482-7924 or (202) 482-8029, respectively.

SUPPLEMENTARY INFORMATION:

Background

On January 3, 2007, the Department published the preliminary results of this review in the Federal Register. See Preliminary Results. On January 9, 2007, in response to a request from Anhui Honghui, we extended the time limit for submitting further information to value the factors of production until February 6, 2007, and comments on these submission until February 16, 2007. The Department simultaneously extended the time limit for parties to submit case and rebuttal briefs to the Department's Preliminary Results until February 23, 2007, and March 2, 2007, respectively. On February 5, 2007, the Department notified parties of its adoption of a new 2004 PRC wage rate and invited comments on the issue in the context of parties' case briefs. We received Anhui Honghui's second submission regarding surrogate value information on February 6, 2007.

On February 6, 2007, the American Honey Producers Association and the Sioux Honey Association (collectively, petitioners) filed a request for the Department to expedite the final results for Chengdu, one of the respondents in this administrative review, claiming that Chengdu is not actively participating in this review and is misusing its low cash deposit rate to enter significant quantities of PRC honey into the United States. On February 28, 2007, the Department issued a Decision Memorandum expediting the final results of review for Chengdu and extending the deadline for case briefs for all parties in this review until March 14, 2007, and for rebuttal briefs until March 21, 2007. See Memorandum to David M. Spooner, Assistant Secretary for Import Administration, from Stephen J. Claeys, Deputy Assistant Secretary for Import Administration, Expedited Final Results of Administrative Review for Chengdu Waiyuan Bee Products Co., Ltd. (February 28, 2007). No comments with respect to the expedited final results for Chengdu were filed. Accordingly, on April 2, 2007, the Department published its expedited final results of review with respect to Chengdu. See Honey from the People's Republic of China: Expedited Partial Final Results of Antidumping Duty Administrative Review, 72 FR 15655 (April 2, 2007) (Expedited Review for Chengdu).

We received a case brief from Anhui Honghui on March 14, 2007, and a rebuttal brief from petitioners on March 22, 2007. On April 12, 2007, the Department extended the deadline for the final results to July 2, 2007. See Honey from the People's Republic of China: Extension of Time Limit for Final Results of Fourth Antidumping Duty Administrative Review and the Eighth New Shipper Review, 72 FR 18461 (April 12, 2007).

Scope of the Antidumping Duty Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under order is dispositive.

Analysis of Comments Received

All issues raised in the briefs are addressed in the “Memorandum to the Assistant Secretary: Issues and Decision Memorandum for the Final Results of the Fourth Administrative Review of Honey from the People's Republic of China,” dated July 2, 2007 (Issues & Decision Memorandum), which is hereby adopted by this notice. A list of the issues raised, all of which are in the Issues and Decision Memorandum, is attached to this notice as Appendix I. Parties can find a complete discussion of all issues raised in the briefs and the corresponding recommendations in this public memorandum which is on file in the Central Records Unit (CRU), room B-099 of the Department of Commerce building. In addition, a complete version of the Issues and Decision Memorandum can be accessed directly on the Web at http://www.trade.gov/ia/. The paper copy and electronic version of the Issues and Decision Memorandum are identical in content.

Changes Since the Preliminary Results

Based on the comments received from the interested parties, we have made changes to the margin calculation for Anhui Honghui. For the final results, we have updated the surrogate values for paint, and brokerage and handling. We also used the revised non-market economy (NME) wage rate, as posted on the Department's website on February 2, 2007. Additionally, we have updated and corrected a clerical error with respect to our application of the surrogate financial ratios. For a discussion of these changes, see the Issues and Decision Memorandum at Comment 6. For a discussion of the changes to the margin calculation for Anhui Honghui, see Memorandum to the File: Fourth Antidumping Duty Administrative Review of the Antidumping Duty Order on Honey from the People's Republic of China for Anhui Honghui Foodstuff (Group) Co., Ltd. (Anhui Honghui), dated July 2, 2007 (Anhui Honghui Analysis Memo). A public version of these memoranda are on file in the CRU.

The PRC-wide rate has also changed for the final results, from 212.39 percent to 221.02 percent. This rate represents the calculated rate for Anhui Honghui in these final results and is the highest rate determined in the instant or any previous segment of this proceeding. We will apply the new PRC-wide rate of 221.02 percent to the PRC-wide entity (including Jiangsu, Shino-Food, and Kunshan Xin'an) for the final results. See “The PRC-Wide Rate and Application of Facts Otherwise Available” section below. Corroboration of the new PRC-wide rate is not required because this rate is based on, and calculated from, information submitted by Anhui Honghui in the course of this administrative review, i.e., it is not secondary information. See 19 CFR 351.308(c) and (d) and section 776(c) of the Tariff Act of 1930, as amended (the Act).

Separate Rates

Anhui Honghui requested a separate, company-specific antidumping duty rate. In our preliminary results, we found that Anhui Honghui had met the criteria for the application of a separate antidumping duty rate. See Preliminary Results. We have not received any information since the Preliminary Results which would warrant reconsideration of our separate-rates determination with respect to Anhui Honghui. Therefore, for these final results, we will continue to calculate a company-specific separate rate for this respondent.

Use of Adverse Facts Available

For the reasons outlined below, we have applied total adverse facts available to Jiangsu, Shino-Food, and Kunshan Xin'an. Section 776(a)(2) of the Act provides that, if an interested party: (A) Withholds information that has been requested by the Department; (B) fails to provide such information in a timely manner or in the form or manner requested subject to sections 782(c)(1) and (e) of the Act; (C) significantly impedes a proceeding under the antidumping statute; or (D) provides such information but the information cannot be verified, the Department shall, subject to section 782(d) of the Act, use facts otherwise available in reaching the applicable determination.

Section 782(d) of the Act provides that when the Department finds that a respondent has not complied with a request for information, the Department shall inform the respondent of the deficiency and allow them an opportunity to remedy or explain the deficiency. If the Department finds that the subsequent response of the respondent is deficient or is not filed within the applicable time limits, the Department may, subject to subsection (e) disregard all or part of the original and subsequent responses. Moreover, section 782(e) states that the Department shall not decline to consider information by a respondent if: (1) the information is submitted by the deadline established for its submission; (2) the information can be verified; (3) the information is not so incomplete that it cannot serve as a reliable basis for reaching the applicable determination; (4) the interested party has demonstrated that it acted to the best of its ability in providing information and meeting the requirements established by the Department with respect to the information; and (5) the information can be used without undue difficulties.

In the Preliminary Results, the Department determined that Jiangsu, Shino-Food, and Kunshan Xin'an did not cooperate to the best of their ability because these companies failed to respond to the Department's requests for information and that necessary information either was not provided, or the information provided could not be verified and is not sufficiently complete to enable the Department to rely on such information in reaching a determination in the instant review. See 72 FR at 105-108. Because Jiangsu, Shino-Food, and Kunshan Xin'an did not cooperate to the best of their ability in this proceeding, the Department found it necessary, pursuant to sections 776(a)(2)(A)-(D) and 776(b) of the Act, to use adverse facts available as the basis for our preliminary results of reviews for these companies. See Id. Because these companies failed to cooperate to the best of their ability in this review, we determined that Jiangsu, Shino-Food, and Kunshan Xin'an were not entitled to separate rates. For these reasons, we considered Jiangsu, Shino-Food, and Kunshan Xin'an as part of the PRC-wide entity.

At the Preliminary Results, the Department found that the PRC-wide entity (including Jiangsu, Shino-Food, and Kunshan Xin'an) did not respond to our requests for information and, therefore, applied adverse facts available to the PRC-wide entity pursuant to sections 776(a)(2)(A)-(D) and 776(b) of the Act. Id. For the final results, since no new information has been placed on the record regarding the PRC-wide entity, we continue to apply adverse facts available (AFA).

Selection of AFA Rate

In deciding which facts to use as AFA, section 776(b) of the Act and 19 CFR 351.308(c)(1) authorize the Department to rely on information derived from (1) the petition, (2) the final determination, (3) a previous administrative review, or (4) other information placed on the record. Because information from prior proceedings constitutes secondary information, section 776(c) of the Act provides that the Department shall, to the extent practicable, corroborate that secondary information from independent sources reasonably at its disposal. The Statement of Administrative Action (SAA) provides that “corroborate” means simply that the Department will satisfy itself that the secondary information to be used has probative value. See SAA at 870. To corroborate secondary information, the Department will, to the extent practicable, examine the reliability and relevance of the information to be used. However, unlike other types of information, such as input costs or selling expenses, there are no independent sources for calculated dumping margins. The only source for margins is administrative determinations. Thus, in an administrative review, if the Department chooses as total AFA a calculated dumping margin from a prior segment of the proceeding, it is not necessary to question the reliability of the margin for that time period. With respect to the relevance aspect of corroboration, however, the Department will consider information reasonably at its disposal as to whether there are circumstances that would render a margin not relevant. Where circumstances indicate that the selected margin is not appropriate as AFA, the Department will disregard the margin and determine an appropriate margin (see Fresh Cut Flowers from Mexico; Preliminary Results of Antidumping Duty Administrative Review (60 FR 49567)), where the Department disregarded the highest margin in that case as adverse best information available (BIA) because the margin was based on another company's uncharacteristic business expense resulting in an unusually high margin). For this review, we have used the highest rate on the record of any segment of the proceeding, i.e., the final calculated rate for Anhui Honghui in this proceeding. See, e.g., Freshwater Crawfish Tail Meat from the People's Republic of China: Notice of Final Results of Antidumping Duty Administrative Review, 68 FR 19504 (April 21, 2003). As there is no information on the record of this review that demonstrates that this rate is not appropriately used as AFA, we determine that this rate has relevance and is reliable.

As this rate is based on the experience of a producer/exporter of the subject merchandise, we find that it has probative value. As a result, the Department determines that the final margin calculated in the instant review for Anhui Honghui, i.e., 221.02 percent, is corroborated for the purposes of this administrative review and may reasonably be applied to the PRC-wide entity. Partial Rescission of Administrative Reviews

In the Preliminary Results, the Department issued a notice of intent to rescind this administrative review with respect to nineteen producers/exporters of honey from the PRC, which were party to this proceeding following the initiation of this administrative review.¹ The Department issued its preliminary intent to rescind as four of these companies were found to have made no entries of subject merchandise during the POR, and the requests for review were timely withdrawn for the remaining fifteen. See Preliminary Results, 72 FR at 104. The Department received no comments on this issue and has no evidence to challenge this finding. Therefore, the Department is rescinding this administrative review with respect to these nineteen producers/exporters of honey.

¹ Inner Mongolia Autonomous Region Native Produce and Animal By-Products Import & Export Corp. a.k.a. Inner Mongolia Autonomous Region Native Produce and Animal By-Products; Shanghai Xiuwei International Trading Co., Ltd.; Kunshan Foreign Trading Company; Zhejiang Native Produce and Animal By-Products Import & Export Corp. a.k.a. Zhejiang Native Produce and Animal By-Products Import & Export Group Corp.; High Hope International Group Jiangsu Foodstuffs Import & Export Corp.; Shanghai Eswell Enterprise Co., Ltd.; Anhui Native Produce Import & Export Corp.; Henan Native Produce Import & Export Corp.; Sichuan-Dujiangyan Dubao Bee Industrial Co., Ltd.; Wuhan Bee Healthy Company, Ltd.; Jinfu Trading Co., Ltd.; Shanghai Shinomiel International Trade Corporation; Eurasia Bee's Products Co., Ltd.; Foodworld International Club, Ltd.; Inner Mongolia Youth Trade Development Co., Ltd.; Apiarist Co.; Shanghai Taiside Trading Co., Ltd.; Wuhu Qinshi Tangye; and Zhejiang Willing Foreign Trading Co., Ltd.

Final Results of Review

We determine that the following antidumping duty margins exist for the period December 1, 2004, through November 30, 2005:

Manufacturer/Exporter | Weighted-Average Margin (Percent)
Anhui Honghui Foodstuff (Group) Co., Ltd. | 221.02
PRC-wide Rate (including Jiangsu, Shino-Food, and Kunshan Xin'an) | 221.02

Assessment Rates

Pursuant to 19 CFR 351.212(b), the Department will determine, and U.S. Customs and Border Protection (CBP) shall assess, antidumping duties on all appropriate entries. The Department intends to issue assessment instructions to CBP 15 days after the date of publication of these final results of review. For assessment purposes, where possible, we calculated importer-specific assessment rates for honey from the PRC on a per-unit basis. Specifically, we divided the total dumping margins (calculated as the difference between normal value and export price or constructed export price) for each importer by the total quantity of subject merchandise sold to that importer during the POR to calculate a per-unit assessment amount. We will direct CBP to levy importer-specific assessment rates based on the resulting per-unit (i.e., per-kilogram) rates by the weight in kilograms of each entry of the subject merchandise during the POR.

Cash Deposits

The following cash-deposit requirements will be effective upon publication of these final results for shipments of the subject merchandise entered, or withdrawn from warehouse, for consumption on or after the publication date of these final results, as provided by section 751(a)(2)(C) of the Act: (1) for subject merchandise exported by Anhui Honghui, we will establish a per-kilogram cash deposit rate which will be equivalent to the company-specific cash deposit established in this review; (2) the cash deposit rate for PRC exporters who received a separate rate in a prior segment of the proceeding will continue to be the rate assigned in that segment of the proceeding (except for Jiangsu, Shino-Food and Kunshan Xin'an, whose cash-deposit rate has changed in this review to the PRC-wide entity rate, noted below); (3) for all other PRC exporters of subject merchandise which have not been found to be entitled to a separate rate, the cash-deposit rate will be the PRC-wide rate of 221.02 percent; and (4) for all non-PRC exporters of subject merchandise, the cash-deposit rate will be the rate applicable to the PRC supplier of that exporter.

These deposit requirements shall remain in effect until further notice.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

This determination is issued and published in accordance with sections 751(a)(2)(B) and 777(i)(1) of the Act.

Dated: July 2, 2007.
David M. Spooner,
Assistant Secretary for Import Administration.

Appendix I

Comment 1: Surrogate Value for Raw Honey

Comment 2: The Use of MHPC Financial Statements

Comment 3: Calculation of Surrogate Financial Ratios

Comment 4: Calculation of NME Wage Rate

Comment 5: Surrogate Value for Brokerage and Handling

Comment 6: Clerical Errors

[FR Doc. E7-13480 Filed 7-10-07; 8:45 am]

BILLING CODE 3510-DS-P